COMMODITY FUTURES TRADING COMMISSION

Requests Pursuant to Section 4(c) of the Commodity Exchange Act To Extend the Exemption Granted Under Part 35 of the Commission's Regulations to Certain Over-The-Counter Swaps and To Determine as Eligible Swap Participants Certain Floor Brokers and Traders

AGENCY: Commodity Futures Trading Commission.

ACTION: Extension of Comment Period.

SUMMARY: The Commodity Futures Trading Commission (“Commission”) published on December 6, 2007, a notice of request for comment on exemption requests.¹ Specifically, the Commission requested comment on whether to extend the exemption granted under Part 35 of the Commission's regulations to certain over-the-counter (“OTC”) swaps that do not meet certain of the requirements otherwise imposed by Commission Regulation 35.2., as requested by ICE Clear U.S., Inc., a registered derivatives clearing organization, pursuant to section 4(c) of the Commodity Exchange Act (“Act”). The Commission also requested comment on a request from ICE Futures U.S., Inc. pursuant to section 4(c) of the Act that certain floor traders and floor brokers who are registered with the Commission, when trading for their own accounts, may be determined to be eligible swap participants and permitted to enter into certain specified OTC swap transactions.

¹ 72 FR 68862 (December 6, 2007).

A potential commenter has asked for an extension of the comment period in light of fact that much of the initial comment period fell during the end-of-year holiday period. The Commission is extending the comment period by 30 days.

DATES: Comments must be received on or before February 6, 2007.

ADDRESSES: Comments may be submitted by any of the following methods:

• Federal eRulemaking Portal: http://www.regulations.gov/http://frwebgate.access.gpo/cgi-bin/leaving. Follow the instructions for submitting comments.

• E-mail: secretary@cftc.gov. Include “ICE Clear Section 4(c) Request” in the subject line of the message.

• Fax: 202-418-5521.

• Mail: Send to David A. Stawick, Secretary, Commodity Futures Trading Commission, Three Lafayette Centre, 1155 21st Street, NW., Washington, DC 20581.

• Courier: Same as mail above.

All comments received will be posted without change to http://www.cftc.gov/.

FOR FURTHER INFORMATION CONTACT: Lois J. Gregory, Special Counsel, 816-960-7719, lgregory@cftc.gov, or Robert B. Wasserman, Associate Director, 202-418-5092, rwasserman@cftc.gov, Division of Clearing and Intermediary Oversight; or Duane C. Andresen, Special Counsel, 202-418-5492, Andresen@cftc.gov, Division of Market Oversight, Commodity Futures Trading Commission, Three Lafayette Centre, 1155 21st Street, NW., Washington, DC 20581.

Issued in Washington, DC, on January 2, 2008 by the Commission.
David A. Stawick,
Secretary of the Commission.

[FR Doc. E8-11 Filed 1-4-08; 8:45 am]

BILLING CODE 6351-01-P